DEPARTMENT OF HOUSING AND URBAN DEVELOPMENT

[Docket No. FR-5681-N-14]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202) 401-0787; Army: Ms. Veronica Rines, Office of the Assistant Chief of Staff for Installation Management, Department of Army, Room 5A128, 600 Army Pentagon, Washington, DC 20310, (571) 256-8145; Coast Guard: Commandant, United States Coast Guard, Attn: Jennifer Stomber, 2100 Second St. SW., Stop 7901, Washington, DC 20593-0001; (202) 475-5609; NASA: Mr. Frank T. Bellinger, Facilities Engineering Division, National Aeronautics & Space Administration, Code JX, Washington, DC 20546, (202) 358-1124; Navy: Mr. Steve Matteo, Department of the Navy, Asset Management Division, Naval Facilities Engineering Command, Washington Navy Yard, 1322 Patterson Avenue SE., Ste. 1000, Washington, DC 20374, (202) 685-9426; (These are not toll-free numbers).

Dated: March 28, 2013.
Mark Johnston,
Deputy Assistant Secretary for Special Needs.

TITLE V, FEDERAL SURPLUS PROPERTY PROGRAM FEDERAL REGISTER REPORT FOR 04/05/2013

Suitable/Available Properties

Building

Massachusetts

Generator Bldg.

North Reservation Terrace

Plum Island MA 01950

Landholding Agency: Coast Guard

Property Number: 88201310003

Status: Excess

Comments: off-site removal; 144 sf.; very poor conditions; restricted area; contact Coast Guard for accessibility/removal reqs.

Tower Storage Bldg.

Miacomet

Nantucket MA 02554

Landholding Agency: Coast Guard

Property Number: 88201310004

Status: Excess

Comments: off-site removal only; 600 sf.; very poor conditions; restricted area; contact Coast Guard for accessibility/removal reqs.

Tower Storage Bldg.

900 Ferry St.

Marshfield MA 02050

Landholding Agency: Coast Guard

Property Number: 88201310005

Status: Excess

Comments: off-site removal only; 300 sf.; very poor conditions; restricted area; contact Coast Guard for accessibility/removal reqs.

New York

Housing Units

424 USS North Carolina Rd.

Staten Island NY 10305

Landholding Agency: Coast Guard

Property Number: 88201310008

Status: Excess

Comments: off-site removal only; 16,638 sf.; housing; very poor conditions; secured area; contact Coast Guard for accessibility/removal reqs.

Texas

Building 41

2101 NASA Parkway

Houston TX 77058

Landholding Agency: NASA

Property Number: 71201310003

Status: Unutilized

Comments: 671 sf.; office/shop; deteriorated conditions; remediation needed; restricted access; stringent accessibility reqs.; contact Sandra J. Tetley at sandra.j.tetley@nasa.gov for more info.

Suitable/Unavailable Properties

Building

Washington

Willard Pole #2309

201 Oklahoma Rd.

Willard WA 98605

Landholding Agency: Agriculture

Property Number: 15201310020

Status: Excess

Comments: 3,500 sf.; repairs needed; restricted area; contact USDA for accessibility/removal reqs.

Wil Garage #1510 & 1511

201 Oklahoma Rd.

Willard WA 98605

Landholding Agency: Agriculture

Property Number: 15201310021

Status: Excess

Comments: 480 sf. for ea. bldg.; storage; repairs needed; restricted area; contact USDA for accessibility/removal reqs.

Unsuitable Properties

Building

Florida

Building 798

NAS

Jacksonville FL

Landholding Agency: Navy

Property Number: 77201310004

Status: Underutilized

Comments: located on restricted naval air station; public access denied & no alternative method to gain access w/out compromising nat'l security

Reasons: Secured Area

Maryland

Shed

2401 Hawkins Point Rd.

Baltimore MD 21226

Landholding Agency: Coast Guard

Property Number: 88201310007

Status: Excess

Comments: located on an active military facility; public access denied & no alternative method to gain access w/out compromising nat'l security

Reasons: Secured Area

Massachusetts

Emergency Response Storage

54 Tillson Ave.

Rockland MA 04841

Landholding Agency: Coast Guard

Property Number: 88201310006

Status: Excess

Comments: public access denied & no alternative method to gain access w/out compromising nat'l security

Reasons: Secured Area

Washington

10 Buildings

Joint Base Lewis McChord

JBLM WA 98433

Landholding Agency: Army

Property Number: 21201310066

Status: Underutilized

Directions: 03154, 03156, 03157, 03158, 03160, 03161, 03163, 03164, 03165, 03167

Comments: secured military cantonment area; public access denied & no alternative method to gain access w/out compromising nat'l security

Reasons: Secured Area

[FR Doc. 2013-07686 Filed 4-4-13; 8:45 am]

BILLING CODE 4210-67-P